DEPARTMENT OF LABOR

Occupational Safety and Health Administration

[Docket No. S-012-B]

The Control of Hazardous Energy (Lockout/Tagout): Notice of the Availability of a Lookback Review Pursuant to the Regulatory Flexibility Act and Executive Order 12866

AGENCY: Occupational Safety and Health Administration (OSHA), Labor.

ACTION: Notice.

SUMMARY: The Occupational Safety and Health Administration has completed a lookback review of its Lockout/Tagout Standard, 29 CFR 1910.147, pursuant to Sec. 610 of the Regulatory Flexibility Act and Sec. 5 of Executive Order 12866. That review indicates that the standard protects 3.3 million workers at 1 million facilities; that it has reduced fatalities from unexpected activation of machinery at facilities in the automobile and steel making industries by 20% to 55% in the years since promulgation; that there is still a substantial amount of noncompliance; that the standard does not impose a significant impact on small business; and that public commenters agree that the standard should remain in effect. Based on this review, OSHA concludes that the Lockout/Tagout Standard should be continued without change and that OSHA should continue to improve its compliance assistance in this area.

FOR FURTHER INFORMATION CONTACT: Joseph Pipkin, Director, Electrical and Mechanical Engineering Standards, Rm.N-3609, OSHA, U.S. Department of Labor, 200 Constitution Avenue, N.W., Washington, D.C. 20210, telephone (202) 693-2042, Fax (202) 693-1663. Direct technical inquiries about the Lockout/Tagout Standard to: Walter Siegfried, General Industry Compliance Assistance, Rm. N-3107, telephone (202) 693-1866, or visit the OSHA Homepage at www.OSHA.dol.gov.

ADDRESSES: Copies of the entire report may be obtained from the OSHA Publication Office, Rm. N2101, 200 Constitution Ave., NW. Washington, DC 20210, telephone (202) 693-1888, Fax (202) 693-2498. The full report, comments, and referenced documents are available for review at the OSHA Docket Office, Docket No. S-012-B, Rm. N-2625, 200 Constitution Ave., NW. Washington, DC 20210, telephone (202) 693-2119.

SUPPLEMENTARY INFORMATION: The Occupational Safety and Health Administration (OSHA) issued its final standard on the “The Control of Hazardous Energy (Lockout/Tagout)” on September 1, 1989 at 54 FR 36644-36695. That standard, more commonly known as the “Lockout/Tagout Standard,” is codified at 29 CFR 1910.147.

OSHA has completed a “Lookback” review of the Lockout/Tagout standard. Lookback reviews evaluate the effectiveness of a standard in achieving the statutory goals of the Act under which it was promulgated and determines whether action is needed to revise or rescind the standard. Lookback reviews also evaluate whether changes need to be made to the standard to mitigate any impacts on a substantial number of small entities. This Federal Register notice announces the availability of that review and briefly summarizes it. The standard establishes requirements employers must follow to disable machinery and equipment and to prevent the release of potentially hazardous energy during the servicing and maintenance of that machinery and equipment. The Lockout/Tagout standard requires employers to develop and implement lockout/tagout programs and to train their workers to follow required procedures during servicing and maintenance work. “Lockout” refers to the practice of installing a lock on an energy-isolating device, such as a circuit breaker or shut-off valve, so that the equipment will not be energized by mistake. The term “tagout” refers to the practice of attaching a warning tag to an energy-isolating device to warn employees not to energize the equipment until the warning tag has been removed.

In 1997, the Agency initiated a regulatory review of the standard, as required by Section 610 of the Regulatory Flexibility Act (RFA), 5 U.S.C. 601, 610, and Section 5 of Executive Order (EO) 12866. Section 610 of the RFA requires agencies to determine whether their standards should be continued without change or should be amended or rescinded, consistent with the objectives of the Occupational Safety and Health Act (OSH Act), to minimize any significant impact of the rule on a substantial number of small entities. Section 5 of EO 12866 requires agencies to determine whether, to reduce the regulatory burden on the American people, their families, communities, State, local, and tribal governments, and industries, the standard should be modified or eliminated to make it more effective in achieving its regulatory objectives, or less burdensome, or to bring it into better alignment with the President's priorities and the principles set forth in the Executive Order.

To facilitate the review, OSHA on May 29, 1997, requested public comments on the Lockout/Tagout Standard at 62 FR 29089. OSHA also held a public meeting on June 30, 1997, on the review. Comments and other materials received in the course of the review were placed in public Docket S-012-B.

OSHA specifically asked for comments on eight aspects of the rule, including the benefits and utility of the rule in its current form or in an amended form; potential feasible alternatives to the rule; the continued need for the rule; the complexity of the rule; evidence of overlap, duplication, or conflict between the rule and other federal, state, and local rules; information on economic, technological, and other material changes since the promulgation of the rule; alternatives to the rule or portions of the rule that could minimize significant impacts on small businesses; and the effectiveness of the rule as implemented by small entities. Comments were received from employers, unions, trade associations, safety organizations, the Small Business Administration and others.

Conclusions

Based on the comments and testimony of participants in this lookback review process and other evidence submitted to the public docket, OSHA concludes that the Agency's Control of Hazardous Energy (Lockout/Tagout) standard should be continued without change. The evidence also demonstrates that the standard does not need to be rescinded or amended to minimize significant impacts on a substantial number of small entities.

OSHA also finds that the Lockout/Tagout standard is necessary to protect employee safety and health, is compatible with other OSHA standards containing lockout/tagout provisions, is not duplicative or in conflict with other Federal, State, or local government rules, is not inappropriately burdensome, and is consistent with the President's priorities and the principles of EO 12866. In addition, although the standard is technically complex, compliance assistance materials will assist employers in interpreting the standard. Further, no changes have occurred in technological, economic, or other factors that would warrant revision of the standard at this time.

Impact of the Standard

The Lockout/Tagout standard protects approximately 3.3 million employees working at 1 million firms. There is some evidence that the level of compliance could be improved; the standard is generally one of the five standards most frequently cited by OSHA Compliance Officers for violations.

The most typical situation covered by the standard is to protect employees from death or injury when a machine is unexpectedly turned on by an operator while another employee is servicing or repairing the machine. For example, accidents often occur when one employee is inside the equipment or has his or her hands inside a press to repair or adjust it, and another person inadvertently turns the machine on, crushing or amputating the repair worker's limb.

The standard provides, in general terms, that the repair person must lock out the switch and keep the key while repairing the machine so that the machine cannot be activated while the repairs are taking place. The standard also has other provisions on training, setting up programs to implement the standard, and exceptions.

Three sources of data were submitted to the docket that demonstrate the rule's effectiveness: Data from the United Automobile, Aerospace, and Agricultural Implement Workers of America (UAW) fatality database; data from a similar database maintained by the United Steelworkers of America (USWA); and data from a study of sawmill injuries in Maine. The UAW database shows a significant decline in lockout-related fatalities. In the years between 1989 (when the final rule was published) and 1997, lockout-related fatalities declined by 20 percent per year; when the concomitant increase in the proportion of auto workers exposed to lockout hazards is taken into account, the UAW believes that a 30 percent annual decline in the rate of these fatalities has occurred.

The USWA database tells a similar story: over a seven year period (1990-1997), a 55 percent reduction in lockout/tagout-related fatalities occurred at the 10 basic steel-producing companies represented in the data base. The third study involved an epidemiological analysis of wood product industry workers in Maine and included 157 cases involving injured workers (“cases”) and 251 cases involving uninjured workers (“controls”). This study showed that injured workers were three times less likely than uninjured workers to work in an establishment having a lockout/tagout program. Although the data from this epidemiological study do not establish a direct link between injuries and the absence of lockout/tagout programs, they do suggest an association between these factors.

In addition to these analyses, commenters (including companies like Bell Atlantic and Kodak), unions (such as the UAW, USWA, and the International Brotherhood of Electrical Workers), employer groups (such as the Organization Resources Counselors), and professional societies, such as the American Society of Safety Engineers, stated that the standard had been effective in saving lives and preventing injuries. Overall, most comments supported continuation of the standard because it had been effective in achieving its worker protection goal. Some participants suggested that OSHA revise certain provisions of the rule they felt were complex. However, most commenters urged OSHA to address these issues by providing compliance assistance materials rather than by reopening the rulemaking.

Those commenters to the docket who represented small businesses, such as the National Association of Manufacturers, the Society of the Plastics Industry, and the Synthetic Organic Chemical Manufacturers Association, also generally agreed. They stated that additional compliance assistance, rather than a reopening of the rulemaking, was an appropriate way for OSHA to address these commenters' concerns.

In response to these suggestions, OSHA has decided to provide additional compliance assistance materials. Specifically, OSHA intends to:

• Review and update the Lockout/Tagout compliance directive, STD 1-7.3;

• Review existing interpretations relating to the standard and develop interpretations to address questions raised by review participants; and

• Develop, in conjunction with the National Automobile Dealers Association, compliance assistance materials for industries engaged in vehicle maintenance and repair.

OSHA has already completed several documents related to the Lockout/Tagout standard in response to comments made during this lookback review. These include:

•-The Lockout/Tagout Interactive Training Program, which consists of three major components: a Tutorial, a group of abstracts called “Hot Topics,” and a group of Interactive Case Studies. The Tutorial explains the standard in a question/answer format. The “Hot Topics” consist of five abstracts containing a detailed discussion of major issues in which relevant highlighted sections of the all-inclusive documents are linked together. In the Interactive Case Studies, seven simulated Lockout/Tagout inspections are presented.

•-The Integrated Preamble, which combines the final rule preamble published in the September 1, 1989 Federal Register and the final rule corrections and technical amendments document published in the September 20, 1990 Federal Register.

•-The Lockout/Tagout Plus Advisor, which is interactive, expert, diagnostic software. It allows users to be interviewed about their activities to determine whether workers might be exposed to hazards from moving machinery or electricity or other sources of energy. It asks questions to determine whether the work is covered by the Lockout/Tagout Standard or other standards concerned with hazardous energy. The software responds to the users' facts to provide expert guidance, explanations, and assistance.

These materials may be obtained from the OSHA Publications Office, Room N-2101, 200 Constitution Ave., N.W., Washington, D.C. 20210, or the OSHA web page at www.osha.dol.gov.

Signed at Washington, D.C. this 2nd day of June, 2000.
Charles N. Jeffress,
Assistant Secretary of Labor.

[FR Doc. 00-15490 Filed 6-19-00; 8:45 am]

BILLING CODE 4510-26-P